OFFICE OF THE UNITED STATES TRADE REPRESENTATIVE

[Docket No. USTR-2008-0036]

Delay in Modification of Action Taken in Connection With WTO Dispute Settlement Proceedings on the European Communities’ Ban on Imports of U.S. Beef and Beef Products

Correction

In notice document E9-5933 beginning on page 11613 in the issue of Wednesday, March 18, 2009 make the following correction:

On page 11614, in the second column, after the signature block, Annex I and Annex II are reprinted in full to read as set forth below:

[FR Doc. Z9-5933 Filed 3-23-09; 8:45 am]

BILLING CODE 1505-01-D